DEPARTMENT OF HEALTH AND HUMAN SERVICES

Administration for Children and Families

Statement of Organization, Functions and Delegation of Authority

Notice is hereby given that I have redelegated to the TANF Regional Program Managers the following authorities vested in me by the Director, Office of Family Assistance (OFA) in the memoranda dated April 17, 2007.

(a) Authorities Delegated

1. The authority to respond to general inquiries about established state, territorial, and tribal programs, to explain existing program policies, and to suggest referrals to other government agencies and private organizations.

2. The authority to request information from state, territorial, and tribal grantees relative to program policies and operations.

3. The authority to deem state TANF plan amendments as complete.

4. The authority to approve or disapprove state requests, as permitted under section 45 CFR 205.56(d), to utilize alternative data-matching sources for the Income Eligibility Verification System (IEVS).

5. The authority to approve or disapprove state IEVS targeting plans, pursuant to section 45 CFR 205.56(a)(1).

6. The authority to issue letters to state and tribal TANF grantees acknowledging their success in achieving work participation rates for a fiscal year.

7. The authority to advise and notify state TANF grantees concerning their applications for caseload reduction credits.

8. The authority to request caseload and expenditure data from state TANF grantees in order to establish a Tribal Family Assistance Grant (TFAG).

9. The authority to approve, request changes, or defer action on “Letters of Intent” submitted by tribal applicants who wish to operate a TANF program.

10. The authority to develop TANF technical assistance plans and proposals for the expenditure of technical assistance funds.

11. The authority to request additional information and consult with states and tribes on modifications to TANF corrective compliance plans submitted in response to a penalty determination.

12. The authority to serve as Approving Officials for audit resolution for state and tribal TANF programs, and for tribal NEW programs and Adult Assistance programs that do not involve cost disallowances.

13. The authority to approve Adult Assistance program plans and plan amendments.

14. The authority to approve Federal Financial Participation (FFP) in payments for repairs to homes owned by recipients of assistance under the Adult Assistance programs.

(b) Limitations

1. This delegation of authority shall be exercised under the Department's existing policies on delegations and regulations.

2. The authority to respond to general inquiries relative to established state, territorial, and tribal programs or to inquire about specific grantee policies and operations requires prior consultation with and concurrence of the Director, Division of State TANF Policy for state TANF and Adult Assistance topics or the Director, Division of Tribal TANF Management for tribal TANF and NEW topics.

3. The authority to deem state TANF plan amendments complete requires prior consultation with and concurrence of the Director, Division of State TANF Policy.

4. The authority to approve/disapprove under 45 CFR 205.55(d), state applications to use alternate sources of information for income and eligibility (i.e., IEVS), requires prior consultation with and the concurrence of the Office of the Deputy Assistant Secretary for Administration, the Director, Division of State TANF Policy, and with the other programs affected by the request.

5. The authority to approve/disapprove under 45 CFR 205.56(a)(1), IEVS targeting plans, requires prior consultation with and the concurrence of the Office of the Deputy Assistance Secretary for Administration and the Director, Division of State TANF Policy.

6. The authority to issue letters to state and tribal TANF grantees acknowledging their success in achieving work participation rates for a fiscal year requires the concurrence of the Director, Division of State TANF Policy for state TANF grantees or the Director, Division of Tribal TANF Management for tribal TANF grantees.

7. The authority to advise and notify state TANF grantees on their caseload reduction credit applications requires prior consultation with the Director, Division of State TANF policy.

8. The authority to request caseload and expenditure data from state TANF grantees relative to establishing a TFAG requires consultation with and concurrence of the Director, Division of Tribal TANF Management.

9. The authority to approve, request changes, or defer action on “Letters of Intent” submitted by tribal applicants who wish to operate TANF programs requires prior consultation with and concurrence of the Director, Division of Tribal TANF Management.

10. The authority to implement TANF technical assistance plans and proposals for the expenditure of technical assistance funds requires approval of the Associate Director, TANF in consultation with the Director, Division of State & Territory Management.

11. The authority to request additional information and consult with states and tribes on modifications to TANF corrective compliance plans requires prior consultation with and concurrence of the Director, Division of State TANF Policy for state TANF plans or the Director, Division of Tribal TANF Management for tribal TANF plans.

12. The authority to approve audit resolutions letters requires prior consultation with and the concurrence of the Regional Office Grants Officer and the Director, Division of State TANF Policy for state TANF and Adult Assistance grantees, or the Director, Division of Tribal TANF Management for tribal TANF and NEW grantees.

13. This delegation of authority does not include the authority to make determinations on state appeals concerning audit questions or recommendations by the Department of Health and Human Services (HHS) Audit Agency which involve ACF program practices reviewed under titles I, X, XI, and XVI of the Social Security Act.

14. The authority to approve Adult Assistance Plans and amendments requires prior consultation with and concurrence of the Director, Division of State TANF Policy.

15. The authority to approve FFP in payments for repairs to homes owned by recipients of Adult Assistance requires prior consultation with and concurrence of the Regional Office Grants Officer and Director, Division of State TANF Policy.

(c) Effective Date

This delegation is effective upon the date of signature.

(d) Effect on Existing Delegations

As related to the authorities delegated herein, this delegation of authority supersedes all previous delegations of authority to the TANF Regional Program Managers.

I hereby affirm and ratify any actions taken by the TANF Regional Office Program Managers, Office of Family Assistance, which involved the exercise of the authorities delegated herein prior to the effective date of this delegation.

Dated: June 8, 2007.
Katherine Bradley,
Associate Director, TANF.

[FR Doc. E7-11707 Filed 6-15-07; 8:45 am]

BILLING CODE 4184-01-P